ENVIRONMENTAL PROTECTION AGENCY

40 CFR Part 52

[R03-OAR-2004-PA-0002; FRL-7903-5]

Approval and Promulgation of Air Quality Implementation Plans; Pennsylvania; Revision to the Vehicle Inspection and Maintenance Program for the Philadelphia and Pittsburgh I/M Regions

AGENCY: Environmental Protection Agency (EPA).

ACTION: Proposed rule.

SUMMARY: EPA is proposing to approve a State Implementation Plan (SIP) revision submitted by the Commonwealth of Pennsylvania. This revision establishes mandatory onboard diagnostic testing under the Commonwealth's motor vehicle inspection and maintenance (I/M) program, which applies to motorists in the I/M-designated areas (denoted by Pennsylvania as I/M Regions) of Philadelphia and Pittsburgh. This onboard diagnostic I/M testing applies only to 1996-and-newer vehicles that are already subject to Pennsylvania's existing I/M program and that are equipped with second generation on-board diagnostic systems (or OBD-II).

The Commonwealth's SIP revision also includes a revised I/M program regulation that is an updated version of the previously approved Pennsylvania I/M SIP. This revised regulation contains minor updates made by Pennsylvania to their I/M program since inception of enhanced I/M testing in the Pittsburgh and Philadelphia areas since 1997. However, these administrative changes (which affect the Commonwealth's entire I/M program in all regions) were also part of a separate I/M program SIP revision submitted by Pennsylvania on December 1, 2003. EPA is addressing those administrative, program-wide changes via a separate, simultaneous rulemaking action on that December 2003 SIP revision. Therefore, those administrative changes are not being readdressed by EPA here.

For purposes of this rulemaking action, only changes in the testing regimen applicable to the Philadelphia and Pittsburgh I/M Regions are addressed. The intended effect of this action is to propose approval of the Commonwealth's revised I/M program submitted to EPA on January 30, 2004, as amended on April 29, 2004. This action is being taken under the authority of the Clean Air Act.

DATES: Written comments must be received on or before May 26, 2005.

ADDRESSES: Submit your comments, identified by Regional Materials in Edocket (RME) ID Number R03-OAR-2004-PA-0002 by one of the following methods:

A. Federal eRulemaking Portal: http://www.regulations.gov. Follow the on-line instructions for submitting comments.

B. Agency Web site: http://www.docket.epa.gov/rmepub/ RME, EPA's electronic public docket and comment system, is EPA's preferred method for receiving comments. Follow the on-line instructions for submitting comments.

C. E-mail: campbell.dave@epa.gov.

D. Mail: R03-OAR-2004-PA-0002, Dave Campbell, Chief, Air Quality Planning Branch, Mailcode 3AP21, U.S. Environmental Protection Agency, Region III, 650 Arch Street, Philadelphia, Pennsylvania 19103.

E. Hand Delivery: At the previously-listed EPA Region III address. Such deliveries are only accepted during the Docket's normal hours of operation and special arrangements should be made for deliveries of boxed information.

Instructions: Direct your comments to RME ID No. R03-OAR-2004-PA-0002. EPA's policy is that all comments received will be included in the public docket without change and may be made available online at http://www.docket.epa.gov/rmepub/, including any personal information provided, unless the comment includes information claimed to be Confidential Business Information (CBI) or other information whose disclosure is restricted by statute. Do not submit information that you consider to be CBI or otherwise protected through RME, regulations.gov or e-mail. The EPA RME and the Federal regulations.gov Web sites are an “anonymous access” system, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption and be free of any defects or viruses.

Docket: All documents in the electronic docket are listed in the RME index at http://www.docket.epa.gov/rmepub/. Although listed in the index, some information is not publicly available, i.e., CBI or other information whose disclosure is restricted by statute. Certain other material, such as copyrighted material, is not placed on the Internet and will be publicly available only in hard copy form. Publicly available docket materials are available either electronically in RME or in hard copy during normal business hours at the Air Protection Division, U.S. Environmental Protection Agency, Region III, 1650 Arch Street, Philadelphia, Pennsylvania 19103. Copies of the State submittal are available at the Pennsylvania Department of Environmental Protection, Bureau of Air Quality, P.O. Box 8468, 400 Market Street, Harrisburg, Pennsylvania 17105.

FOR FURTHER INFORMATION CONTACT: Brian Rehn, by telephone at (215) 814-2176, or via e-mail at rehn.brian@epa.gov.

SUPPLEMENTARY INFORMATION: On January 30, 2004, the Pennsylvania Department of Environmental Protection (PA DEP) submitted a revision to its State Implementation Plan (SIP) for the enhanced I/M program that applies to vehicles registered in the Pittsburgh and Philadelphia I/M Regions. On April 29, 2004, PA DEP submitted a technical amendment to the January 30, 2004 SIP revision (hereafter referred to as the January 2004 SIP revision).

I. Background

The Clean Air Act (CAA) as amended in 1990 requires States to adopt an enhanced motor vehicle emissions inspection and maintenance (or I/M) program in selected areas. An I/M program is required based upon an area's air quality (i.e., whether areas violate national ambient air quality standards), the population of its metropolitan centers and whether or not the State lies within the Ozone Transport Region established by the CAA. EPA set forth regulatory requirements to guide States in adoption of I/M programs in November 1992, subsequently revising those regulations on several occasions. These regulatory requirements, hereafter referred to as EPA's I/M requirements rule, are codified at 40 CFR part 51, subpart S.

A. Pennsylvania's Prior Enhanced I/M SIP and EPA's SIP Approval Actions

Pennsylvania adopted several iterations of enhanced I/M during the 1990s, culminating in the publication of a final I/M regulation in the September 27, 1997 edition of the Pennsylvania Bulletin (Vol. 27, No. 39), codified in Chapter 177 of the PA Code. Pennsylvania chose to adopt an I/M test network utilizing decentralized, privatized stations for operation of the program and submitted that program to EPA for SIP approval.

Through a series of rulemakings, EPA subsequently approved the Commonwealth's I/M program as part of the Pennsylvania SIP, culminating in a final rule granting full SIP approval published in the June 17, 1999 edition of the Federal Register (64 FR 32411). That prior I/M SIP approval action is hereafter referred to as EPA's June 1999 SIP approval, or simply as the June 1999 SIP approval. Pennsylvania subsequently made a minor modification to the approved SIP in July of 2003 to revise its Acceleration Simulation Mode (or ASM) testing methodology and test standards that apply to the Philadelphia area program. EPA approved that revision on August 15, 2003 (68 FR 48803).

B. Federal On-Board Diagnostic Testing Requirements

The Clean Air Act as amended in 1990 requires States to incorporate checks of light-duty motor vehicle on-board diagnostic (OBD) systems into their I/M programs. These OBD checks are to be performed on vehicles equipped with second generation OBD systems (referred to as OBD-II). Such OBD-II-equipped vehicles were first introduced beginning in the 1994 model year, but were not available in every new light-duty vehicle until the 1996 model year. Since engines in these newer vehicles are largely electronically controlled, with their operation overseen by a computerized control unit, the operation of the engine and its supporting systems is monitored by the OBD-II software. The vehicle's OBD-II computer detects malfunctions in the operation of critical systems and components as they occur and stores information related to any such problem in its memory, while simultaneously triggering a dashboard warning light to alert the driver of a problem. Such OBD-monitored malfunctions may impact the level of air pollution emitted by the vehicle, therefore Congress required under the Clean Air Act that OBD checks be a mandatory part of I/M programs. An added benefit from OBD checks is that diagnostic information garnered from OBD checks provides for more accurate diagnosis of emission-related malfunctions than could otherwise be obtained from tailpipe emissions testing or visual inspection of the vehicles's emissions system components.

In November 1992, when EPA originally adopted its I/M requirements rule, Federal OBD-II certification standards had not yet been developed. EPA amended its 1992 I/M requirements rule in August 1996 to establish testing standards for I/M checks of OBD-II-equipped vehicles. On May 4, 1998 and again on April 5, 2001, EPA amended its I/M requirements rule specifically to address requirements for OBD checks to be performed as part of I/M programs. In order for the Commonwealth to implement these new OBD test requirements as part of its SIP's I/M program, Pennsylvania needed to amend its regulations and to submit those amendments to EPA as SIP revisions. The Commonwealth submitted two SIP revisions to EPA to incorporate OBD testing into its I/M program dated December 1, 2003 and January 30, 2004, respectively. These revisions address different geographic regions in Pennsylvania that are subject to I/M programs under the Clean Air Act. Together these SIP revisions amend the Commonwealth's prior approved I/M SIP, which EPA approved on June 17, 1999 (64 FR 32411).

EPA is proposing rulemaking action herein only upon the January 30, 2004 SIP revision. EPA is taking separate, simultaneous rulemaking action on the Commonwealth's December 1, 2003 I/M SIP revision. Please refer to that separate EPA rulemaking action for details on EPA's Federal approval of changes to the Pennsylvania I/M program that are not related to the emissions inspection testing performed in the Pittsburgh and Philadelphia areas.

II. Summary of Pennsylvania's January 2004 SIP Revision To Revise the Emissions Inspection Program for the Philadelphia and Pittsburgh Regions

On January 30, 2004, Pennsylvania submitted a revision to its enhanced I/M SIP approved by EPA on June 17, 1999 (64 FR 32411). The Commonwealth submitted a technical correction to the January 30, 2004 SIP revision on April 29, 2004. Hereafter, the corrected version is referred to as the January 2004 SIP revision. This January 2004 SIP revision serves several purposes. It serves to update the Commonwealth's emissions testing program to comply with recent changes to Federal requirements regarding incorporation of on-board diagnostic checks to enhanced I/M program areas. This SIP revision also amends the Commonwealth's prior approved SIP to alter the I/M test regimen for the Philadelphia and Pittsburgh Regions. The I/M program continues to apply on an annual basis to most 1975 and newer model year, gasoline-powered vehicles having a gross vehicle weight rating of 9,000 pounds or less that are registered in a I/M region, as defined by Pennsylvania regulation. However, pre-1996 vehicles that reach twenty-five model years in age will be required to undergo only a gas cap test and a visual inspection of certain emission control devices. Pre-1996 vehicles that are then 25 years old will no longer undergo tailpipe emissions testing.

The Philadelphia I/M Region is defined by Pennsylvania to encompass the Counties of Bucks, Chester, Delaware, Montgomery and Philadelphia. The Pittsburgh Region is comprised of Allegheny, Beaver, Washington and Westmoreland Counties. Emissions testing in both areas consists of an annual on-board diagnostic system check for 1996 and newer OBD-II-equipped vehicles and a gas cap leakage test (in order to verify a gas cap's ability to prevent evaporative hydrocarbon vapor from escaping).

Additionally, subject 1975 to 1995 vehicles (and heavy duty 1996 and newer subject vehicles) receive a gas cap leakage test and also undergo a visual anti-tampering inspection of emissions-related components. The anti-tampering inspection entails visual inspection of the following components, to ensure such components have not been removed or rendered inoperable: catalytic converter, exhaust gas recirculation (EGR) system, positive crankcase ventilation (PCV) valve, air pump, evaporative control system components and fuel tank inlet restrictor.

The type of tailpipe testing required in both the Philadelphia and Pittsburgh Regions is based upon vehicle weight and type and model year of the vehicle. Different testing regimen apply in the Philadelphia area (due to the severity of the air quality problem there) and the Pittsburgh area. The only notable change to the testing regimen from that of the prior Pennsylvania I/M SIP approved by EPA in June 1999 is, as was noted above, that pre-1996 vehicles that reach twenty-five model years in age will be required to undergo only a gas cap test and a visual inspection of certain emission control devices—but will not need to undergo tailpipe exhaust emissions testing in any form. By 2021, tailpipe exhaust emissions testing for all pre-1996 model year vehicles will be dropped altogether, in lieu of a gas cap check and a visual inspection only. Please refer to the technical support document prepared by EPA for this rulemaking action for a detailed description of the test regimen as it applies to specific vehicles (dependent on vehicle age, vehicle weight, vehicle type and the calender year of testing).

The Commonwealth's January 2004 SIP submission to EPA also includes additional supporting materials—including a new demonstration of compliance of the revised I/M programs for the Pittsburgh and Philadelphia Regions to Federal I/M performance-based standards. The Commonwealth has used MOBILE emission factor modeling to show that the program in each of these Regions meets Federal performance-based goals, as evaluated in calender year 2005 and 2007.

The Commonwealth's January 2004 SIP revision does not address minor administrative changes made by Pennsylvania that make minor changes and updates to I/M programs regardless of which geographic region such programs apply. However, the Commonwealth's revised I/M regulation contained in the January 2004 SIP revision is reflective of these administrative changes. The Commonwealth provided supporting materials and their argument for these changes as part of its December 1, 2003 I/M SIP revision. That SIP revision also addresses changes to I/M testing performed in regions outside of Philadelphia and Pittsburgh and changes to the safety inspection program in non-I/M Regions of Pennsylvania. EPA is taking separate, simultaneous rulemaking action upon the December 1, 2003 SIP revision to address those program-wide, administrative changes as they apply to all I/M-subject Regions of the Commonwealth. Please refer to EPA's proposed rulemaking for the December 1, 2003 SIP for a discussion on these minor changes. Comments related to these provisions should be directed to the docket for the December 1, 2003 SIP rulemaking action (regardless of the geographic area of concern).

Certain language adopted by Pennsylvania as part of its I/M regulation, codified at 67 PA Code Chapter 177, has been redacted by Pennsylvania from the I/M SIP revisions. Specifically, this language is omitted from both the December 2003 and the January 2004 SIP revisions as submitted to EPA. This State regulatory language provides Pennsylvania the potential to phase-down/phase-out of I/M testing of pre-1996 subject vehicles at a point in time when pre-1996 vehicles make up a preset proportion of a given region's total, I/M-subject fleet. Since this language is excluded from the SIP revisions, it is not before EPA for consideration for inclusion to the Pennsylvania SIP.

The Commonwealth has also excluded regulatory language from both the December 2003 and January 2004 SIP submissions to EPA that would set the minimum repair expenditure for failing vehicles in need of I/M-related repairs (or waiver limit) at $150 for the first two years after commencement of a new I/M program. That language is, therefore, not under consideration by EPA as a revision to the Pennsylvania SIP.

III. Proposed Action

EPA is proposing to approve Pennsylvania's I/M SIP revision submitted on January 30, 2004, as amended by Pennsylvania via a technical correction on April 29, 2004. This SIP revision incorporates changes being made by Pennsylvania to its I/M program applicable in the Philadelphia and Pittsburgh I/M Regions as described herein.

For more information regarding EPA's detailed review of the Commonwealth's January 30, 2004 I/M SIP revision, please refer to the Technical Support Document (TSD) prepared by EPA in support of this rulemaking action. The TSD is part of the docket for this action and is available at the EPA office listed in the ADDRESSES portion of this proposed rulemaking. EPA is soliciting public comments on the issues discussed in this document. These comments will be considered before taking final action. Interested parties may participate in the Federal rulemaking procedure by submitting either electronic or written comments.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposes to approve State law as meeting Federal requirements and imposes no additional requirements beyond those imposed by State law. Accordingly, the Administrator certifies that this proposed rule will not have a significant economic impact on a substantial number of small entities under the Regulatory Flexibility Act (5 U.S.C. 601 et seq.). Because this rule proposes to approve pre-existing requirements under State law and does not impose any additional enforceable duty beyond that required by State law, it does not contain any unfunded mandate or significantly or uniquely affect small governments, as described in the Unfunded Mandates Reform Act of 1995 (Pub. L. 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the states, on the relationship between the National Government and the States, or on the distribution of power and responsibilities among the various levels of government, as specified in Executive Order 13132 (64 FR 43255, August 10, 1999), because it merely proposes to approve a State rule implementing a Federal standard and does not alter the relationship or the distribution of power and responsibilities established in the Clean Air Act. This proposed rule also is not subject to Executive Order 13045 (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order.

This proposed rule to approve a revision to Pennsylvania's motor vehicle inspection and maintenance Program for the Pittsburgh and Philadelphia Regions does not impose an information collection burden under the provisions of the Paperwork Reduction Act of 1995 (44 U.S.C. 3501 et seq.).

List of Subjects in 40 CFR Part 52

Environmental protection, Air pollution control, Carbon monoxide, Intergovernmental relations, Nitrogen dioxide, Ozone, Reporting and recordkeeping requirements, Volatile organic compounds.

Authority: 42 U.S.C. 7401 et seq.

Dated: April 19, 2005.
Richard Kampf,
Acting Regional Administrator, Region III.

[FR Doc. 05-8323 Filed 4-25-05; 8:45 am]

BILLING CODE 6560-50-P